COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Effective Date: 4/30/2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 12/23/2011 (76 FR 80346), 1/6/2012 (77 FR 780) and 2/3/2012 (77 FR 5495-5496), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Dining Facility Attendant, Buildings 1162 and 2382, Fort Polk, LA.

NPA: Lakeview Center, Inc., Pensacola, FL.

Contracting Activity: Dept of the Army, W6QM FT Polk Doc, Fort Polk, LA.

A comment was received from a consulting firm noting that if this project goes out for a full food service contract, then it would fall under the Randolph-Sheppard Act Program.

The Committee for Purchase From People Who Are Blind or Severely Disabled (Committee) operates pursuant to statutory and regulatory requirements. The Committee is aware of and complies with Section 856 of Public Law 108-375. In this instance, the requirement is for dining facility attendant—not a full food service contract. Accordingly, this project is within the authority of the Committee to consider for the AbilityOne Program Procurement List.

Service Type/Location: Dining Facility Attendant and Cook Support, 120th Fighter Wing, Montana Air National Guard, 2800 Airport Ave B, Bldg. 62, Big Sky Diner, Great Falls, MT.

NPA: Skils'kin, Spokane, WA.

Contracting Activity: Dept of the Army, W7NK USPFO Activity MT ARNG, Fort Harrison, MT.

Barry S. Lineback,
Director, Business Operations.

[FR Doc. 2012-7692 Filed 3-29-12; 8:45 am]

BILLING CODE 6353-01-P